DEPARTMENT OF TRANSPORTATION

Federal Aviation Administration

14 CFR Part 71

[Docket No. FAA-2020-0319; Airspace Docket No. 20-ACE-5]

RIN 2120-AA66

Amendment of Class D and E Airspace; St. Louis, MO

AGENCY: Federal Aviation Administration (FAA), DOT.

ACTION: Final rule.

SUMMARY: This action amends the Class D airspace and Class E surface airspace at Spirit of St. Louis Airport, St. Louis, MO, and the Class E airspace extending upward from 700 feet above the surface at St. Louis Lambert International Airport, St. Louis, MO, Spirit of St. Louis Airport, and St. Charles County Smartt Airport, St. Charles, MO, and removes St. Louis Regional Airport, Alton/St. Louis, IL. This action is the result of airspace reviews caused by the decommissioning of the Cardinal VHF omnidirectional range (VOR) navigation aid as part of the VOR Minimum Operational Network (MON) Program; and the decommissioning of the outer markers for runways 12R, 24, and 30L at St. Louis Lambert International Airport. Airport and navigational aid names are also being updated to coincide with the FAA's aeronautical database.

DATES: Effective 0901 UTC, November 5, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace and the Class E surface airspace at Spirit of St. Louis Airport, St. Louis, MO, and the Class E airspace extending upward from 700 feet above the surface at St. Louis Lambert International Airport, St. Louis, MO, Spirit of St. Louis Airport, and St. Charles County Smartt Airport, St. Charles, MO, which is contained within the St. Louis, MO, airspace legal description, and removing St. Louis Regional Airport, Alton/St. Louis, IL, which is contained within the St. Louis, MO, airspace legal description, to support IFR operations at these airports. (FAA Docket No. FAA-2020-0321/Airspace Docket 20-AGL-17 will create an independent Class E airspace extending upward from 700 feet above the surface airspace legal description for Alton/St. Louis, IL, and will become effective coincidentally with this action.)

History

The FAA published a notice of proposed rulemaking in the Federal Register (85 FR 26898; May 6, 2020) for Docket No. FAA-2020-0319 to amend the Class D airspace and the Class E surface airspace at Spirit of St. Louis Airport, St. Louis, MO, and the Class E airspace extending upward from 700 feet above the surface at St. Louis Lambert International Airport, St. Louis, MO, Spirit of St. Louis Airport, and St. Charles County Smartt Airport, St. Charles, MO, which is contained within the St. Louis, MO, airspace legal description, and removing St. Louis Regional Airport, Alton/St. Louis, IL, which is contained within the St. Louis, MO, airspace legal description. Interested parties were invited to participate in this rulemaking effort by submitting written comments on the proposal to the FAA. No comments were received.

Class D and E airspace designations are published in paragraph 5000, 6002, and 6005 of FAA Order 7400.11D, dated August 8, 2019, and effective September 15, 2019, which is incorporated by reference in 14 CFR 71.1. The Class D and E airspace designations listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71:

Amends the Class D airspace at Spirit of St. Louis Airport, St. Louis, MO, by updating the bearing of the east extension to 078° (previously 079°); and updating the bearing of the west extension to 258° (previously 259°);

Amends the Class E surface area at Spirit of St. Louis Airport by updating the bearing of the east extension to 078° (previously 079°); and updating the bearing of the west extension to 258° (previously 259°);

Amends the Class E airspace extending upward from 700 feet above the surface at St. Louis Lambert International Airport, St. Louis, MO, to within an 8.5-mile (increased from 7.1-mile) radius of the airport; removes the St. Louis Lambert International Runway 24 Localizer and the associated extension from the airspace legal description, as it is no longer needed; removes the St. Louis Lambert International Runway 12R Localizer and the associated extension from the airspace legal description, as it is no longer needed; removes the St. Louis Lambert International Runway 30L Localizer and the associated extension from the airspace legal description, as it is no longer needed; removes the ZUMAY LOM and the associated extension from the airspace legal description, as it is no longer needed; removes the OBLIO LOM and the associated extension from the airspace legal description, as it is no longer needed; updates the name of the St. Louis Lambert International Airport (previously Lambert-St. Louis International Airport) to coincide with the FAA's aeronautical database; updates the bearing of the east extension of Spirit of St. Louis Airport to 078° (previously 079°); updating the name of the Spirit of St. Louis: RWY 26L-LOC (previously Spirit of St. Louis Runway 26L Localizer) to coincide with the FAA's aeronautical database; updates the extension east of the Spirit of St. Louis: RWY 26L-LOC to within 3.8 miles (decreased from 4.1 miles) north and 5.7 miles (decreased from 6.4 miles) south of the 078° (previously 079°) bearing from the Spirit of St. Louis: RWY 26L-LOC extending from the 6.9-mile radius of the Spirit of St. Louis Airport to 10.6 miles (decreased from 11.3 miles) east of the Spirit of St. Louis: RWY 26L-LOC; updates the bearing of the west extension of Spirit of St. Louis Airport to 258° (previously 259°); adds an extension at St. Charles County Smartt Airport, St. Charles, MO, within 3.3 miles each side of the 028° radial from the St. Louis VORTAC extending from the 6.4-mile radius of St. Charles County Smartt Airport to 12.4 miles northeast of St. Charles County Smartt Airport; and removes St. Louis Regional Airport, Alton/St. Louis, IL, which is contained within the St. Louis, MO, airspace legal description, and the Civic Memorial NDB and the associated north and south extensions from St. Louis Regional Airport. (A separate airspace review of St. Louis Regional Airport resulted in the Class E airspace extending upward from 700 feet above the surface at St. Louis Regional Airport no longer adjoining the St. Louis, MO, Class E airspace extending upward from 700 feet above the surface. As a result, a separate Class E airspace extending upward from 700 feet above the surface airspace legal description will be created for Alton/St. Louis, IL, under FAA Docket No. FAA-2020-0321/Airspace Docket 20-AGL-17 and will be become effective coincidentally with this action.)

Subsequent to publication of the NPRM, the FAA discovered that the Class E surface airspace at Spirit of St. Louis Airport, St. Louis, MO, incorrectly stated “Class D airspace area” vice “Class E airspace area.” That error is corrected in this action.

This action is the result of airspace reviews caused by the decommissioning of the Cardinal VHF omnidirectional range (VOR) navigation aid, which provided navigation information for the instrument procedures at these airports, as part of the VOR MON Program; and the decommissioning of the outer markers for runways 12R, 24, and 30L at St. Louis Lambert International Airport.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

ACE MO D St. Louis, MO [Amended]

Spirit of St. Louis Airport, MO

(Lat. 38°39′44″ N, long. 90°39′07″ W)

That airspace extending upward from the surface to and including 3,000 feet within a 4.4-mile radius of Spirit of St. Louis Airport, and within 1 mile each side of the 078° bearing from the airport extending from the 4.4-mile radius to 4.6 miles east of the airport, and within 1 mile each side of the 258° bearing from the airport extending from the 4.4-mile radius to 4.6 miles west of the airport, excluding that airspace within the St. Louis, MO Class B airspace area. This Class D airspace area is effective during the specific dates and times established in advance by a Notice to Airmen. The effective dates and times will thereafter be continuously published in the Chart Supplement.

Paragraph 6002 Class E Airspace Areas Designated as Surface Areas.

* * * * *

ACE MO E2 St. Louis, MO [Amended]

Spirit of St. Louis Airport, MO

(Lat. 38°39′44″ N, long. 90°39′07″ W)

That airspace extending upward from the surface to and including 3,000 feet within a 4.4-mile radius of Spirit of St. Louis Airport, and within 1 mile each side of the 078° bearing from the airport extending from the 4.4-mile radius to 4.6 miles east of the airport, and within 1 mile each side of the 258° bearing from the airport extending from the 4.4-mile radius to 4.6 miles west of the airport, excluding that airspace within the St. Louis, MO Class B airspace area. This Class E airspace area is effective during the specific dates and times established in advance by a Notice to Airmen. The effective dates and times will thereafter be continuously published in the Chart Supplement.

Paragraph 6005 Class E Airspace Areas Extending Upward From 700 Feet or More Above the Surface of the Earth.

* * * * *

ACE MO E5 St. Louis, MO [Amended]

St. Louis Lambert International Airport, MO

(Lat. 38°44′55″ N, long. 90°22′12″ W)

Spirit of St. Louis Airport, MO

(Lat. 38°39′44″ N, long. 90°39′07″ W)

St. Charles County Smartt Airport, MO

(Lat. 38°55′47″ N, long. 90°25′48″ W)

St. Louis VORTAC

(Lat. 38°51′38″ N, long. 90°28′57″ W)

Spirit of St. Louis: RWY 26L-LOC

(Lat. 38°39′26″ N, long. 90°39′48″ W)

That airspace extending upward from 700 feet above the surface within an 8.5-mile radius of St. Louis Lambert International Airport, and within a 6.9-mile radius of Spirit of St. Louis Airport, and within 2.5 miles each side of the 078° bearing from the Spirit of St. Louis Airport extending from the 6.9-mile radius of the airport to 8.1 miles east of the airport, and within 3.8 miles north and 5.7 miles south of the 078° bearing from the Spirit of St. Louis: RWY 26L-LOC extending from the 6.9-mile radius of the Spirit of St. Louis Airport to 10.6 miles east of the Spirit of St. Louis: RWY 26L-LOC, and within 3.9 miles each side of the 258° bearing from the Spirit of St. Louis Airport extending from the 6.9-mile radius of the airport to 10.6 miles west of the airport, and within a 6.4-mile radius of St. Charles County Smartt Airport, and within 3.3 miles each side of the 028° radial from the St. Louis VORTAC extending from the 6.4-mile radius of St. Charles County Smartt Airport to 12.4 miles northeast of the airport.

Issued in Fort Worth, Texas, on July 13, 2020.
Martin A. Skinner,
Acting Manager, Operations Support Group, ATO Central Service Center.

[FR Doc. 2020-15359 Filed 7-16-20; 8:45 am]

BILLING CODE 4910-13-P